DEPARTMENT OF AGRICULTURE

Forest Service

Interior Columbia Basin Ecosystem Management Project, Northern, Intermountain, and Pacific Northwest Regions

DEPARTMENT OF THE INTERIOR

Bureau of Land Management

[ID-918-01-1610-DH-UCRB]

Interior Columbia Basin Ecosystem Management Project, States of Oregon, Washington, Idaho, Montana

AGENCY: Forest Service, USDA; Bureau of Land Management, USDI.

ACTION: Notice of availability of a final environmental impact statement (EIS) and proposed decision for the Interior Columbia Basin Ecosystem Management Project (ICBEMP).

SUMMARY: The Forest Service and Bureau of Land Management have developed a scientifically sound, ecosystem-based management strategy for certain lands under their jurisdiction east of the Cascade crest in Oregon and Washington and in the Columbia River Basin in Idaho and Montana. The final EIS is now available for public review. The responsible officials of the Forest Service and Bureau of Land Management are proposing a decision, based on the analysis in the final EIS. The proposed decision is also available, and, before its approval, may be protested by those who have participated in the planning process and have an interest that is, or may be, adversely affected by the proposed decision. This protest opportunity is being offered by both the Forest Service and the Bureau of Land Management and is the only administrative review available in this process. The Forest Services' appeal process will not be applied to this decision.

DATES: Protests of the proposed decision must be filed with the Director of the Bureau of Land Management and the Chief of the Forest Service by January 16, 2001.

ADDRESSES: Copies of the final EIS and proposed decision may be obtained from ICBEMP, 304 N. 8th Street, Room 250, Boise, ID 83702 or by calling (208) 334-1770, ext. 120. The final EIS and proposed decision are also available via the internet (http://www.icbemp.gov).

FOR FURTHER INFORMATION CONTACT: Susan Giannettino, Project Manager, or Geoff Middaugh, Deputy Project Manager, 304 North 8th St., Room 250, Boise, Idaho 83702, phone (208) 334-1770. For information specific to the protest process, contact Gary Wyke at the same address and telephone number.

SUPPLEMENTARY INFORMATION: On April 4, 2000, the responsible officials for the ICBEMP published a notice of availability in the Federal Register of the supplemental draft EIS for the ICBEMP. A 90-day public review and comment period was provided. Refinements in the EIS have been made in response to public comment and internal review. Responses to comments and changes to the supplemental draft EIS are included in the final EIS. The responsible officials have also proposed a decision, which is to approve and implement alternative S2 from the supplemental draft EIS, as refined in response to public comment.

This proposed decision has been distributed to the public, along with the final EIS. The proposed decision, when approved, will amend land use plans for the administrative units of the Forest Service and Bureau of Land Management within the ICBEMP area as follows:

Forest Service: Boise, Payette, Salmon-Challis, and Sawtooth National Forests and the portion of the Caribou National Forest addressed by the Science Assessment (PNW-GTR-405) in the Intermountain Region; Idaho Panhandle, Clearwater, Nez Perce, Kootenai, Lolo, Flathead, Helena, Deerlodge, and Bitterroot National Forests in the Northern Region; and Ochoco, Winema, Malheur, Deschutes, Fremont, Wallowa-Whitman, Umatilla, Okanogan, and Colville National Forests in the Pacific Northwest Region.

Bureau of Land Management: Lower Snake River District, Upper Snake River District, and the Upper Columbia-Salmon Clearwater District in Idaho; Missoula Field Office in Montana; and Prineville, Lakeview, Burns, Vale, and Spokane Districts in Oregon/Washington.

The Bureau of Land Management planning regulations (43 CFR Part 1610) and the Forest Service planning regulations (36 CFR 219) both provide the public with the opportunity to request administrative review of a proposed land use plan decision. The Bureau of Land Management regulations describe a protest process (43 CFR 1610.5-2):

Any person who participated in the planning process and has an interest which is or may be adversely affected by the approval or amendment of a resource management plan may protest such approval or amendment. A protest may raise only those issues which were submitted for the record during the planning process.

The Forest Service regulations provide that (36 CFR 219.32(e)):

Where the Forest Service is a participant in a multi-agency decision subject to objection under this part, the responsible official and reviewing officer may waive the objection procedures of this part to adopt the administrative review procedure of another participating federal agency, if the responsible official and the responsible official of the other agencies agree to provide a joint response to those who have filed for administrative review of the multi-agency decision.

The Bureau of Land Management and the Forest Service are participating in a multi-agency decision. The responsible officials of the Forest Service and Bureau of Land Management have agreed to provide a joint response to those who file for administrative review of the proposed decision. The responsible officials of the Forest Service (the Regional Foresters of the Northern, Intermountain, and Pacific Northwest Regions) and the reviewing officer (the Chief of the Forest Service) waive the objection procedures under part 219.32 to adopt the administrative review procedure of the Bureau of Land Management. The reasons for this decision are as follows:

—The Forest Service and Bureau of Land Management jointly share the lead for the Interior Columbia Basin Ecosystem Management Project.

—The two agencies have gone jointly to the public for scoping, information-gathering, and review since the inception of the Project.

—Using one administrative review procedure lets the public request review from both agencies at one time, rather than having to make two separate, potentially redundant requests.

—Using two separate administrative review procedures, including potential changes in the proposed Project decision, could result in the two agencies' recording two different decisions. This result would fail to meet the original purpose of this action, which was to develop and analyze a strategy for management of lands administered by both the Forest Service and the Bureau of Land Management.

To request administrative review of the proposed decision for the Interior Columbia Basin Ecosystem Management Project use the following procedure:

—Put the protest in writing and mail it to the Director of the Bureau of Land Management and the Chief of the Forest Service at the following address: Director, Bureau of Land Management and Chief, US Forest Service, ICBEMP Project, PO Box 65480, Washington, DC 20035.

—The protest shall be filed with the Director and Chief by January 16, 2001.

—The protest shall contain:

The name, mailing address, telephone number and interest of the person filing the protest;

A statement of the issue or issues being protested;

A statement of the part or parts of the amendment being protested;

A copy of all documents addressing the issue or issues that were submitted during the planning process by the protesting party or an indication of the date the issue or issues were discussed for the record; and

A concise statement explaining why the responsible officials' decision is believed to be wrong.

The BLM Director and Forest Service Chief will promptly render a joint decision on the protest. The decision will be in writing and will set forth the reasons for the decision. The decision will be sent to the protesting party by certified mail, return receipt requested.

The joint decision of the Director and Chief shall be the final decision of the Department of the Interior and the Department of Agriculture.

The protest process described here is the only administrative review opportunity available in the ICBEMP decision-making process. The Forest Service appeal process, familiar to some participants, will not be used in this planning effort.

Reviewers who do not request administrative review of the proposed decision may not preserve their standing to litigate the final decision.

Dated: December 7, 2000.
Martha Hahn,
State Director, Bureau of Land Management.
Dated: December 7, 2000.
Jack Blackwell,
Forest Service.

[FR Doc. 00-32101 Filed 12-15-00; 8:45 am]

BILLING CODE 4310-GG-M